NUCLEAR REGULATORY COMMISSION

Docket No. 72-5

Nuclear Management Corporation; Issuance of Environmental Assessment and Finding of No Significant Impact

The U.S. Nuclear Regulatory Commission (NRC or the Commission) is considering issuance of an exemption, pursuant to 10 CFR 72.7, from the provisions of 10 CFR 72.48 to Nuclear Management Corporation (NMC). The requested exemption would allow NMC to implement the amended 10 CFR 72.48 requirements on September 7, 2001, for the Independent Spent Fuel Storage Installation (ISFSI) at the Point Beach Nuclear Plant (PBNP) in Manitowoc County, Wisconsin.

Environmental Assessment (EA)

Identification of Proposed Action: By letter dated March 20, 2001, as supplemented April 6, 2001, NMC requested a scheduler exemption from the implementation date of April 5, 2001, for the revised 10 CFR 72.48. NMC plans to implement its revised 10 CFR 50.59 and 10 CFR 72.48 programs simultaneously. The planned date for implementing the revised 10 CFR 50.59 requirements is September 7, 2001.

Need for Proposed Action: The applicant wants the implementation date of 10 CFR 50.59 and 10 CFR 72.48 to coincide. The applicant stated in the March 20, 2001, submittal that administering separate programs to satisfy the current 10 CFR 72.48 schedule could become burdensome and create confusion.

Environmental Impacts of the Proposed Action: There are no significant environmental impacts associated with the proposed action. The new revision of 10 CFR 72.48 is considered less restrictive than the current requirements, with the exception of the additional reporting requirements. Continued implementation of the existing 10 CFR 72.48 until September 7, 2001, is acceptable to the NRC as stated in Regulatory Issues Summary 2001-03 which states that it is the NRC's view that both the old rule and the new rule provide an acceptable level of safety. Extending the current requirements until September 7, 2001, has no significant impact on the environment.

Alternative to the Proposed Action: Since there are no environmental impacts associated with the proposed action, alternatives are not evaluated other than the no-action alternative. The alternative to the proposed action would be to deny approval of the scheduler exemption and, therefore, not allow NMC to implement the revised 10 CFR 72.48 requirements on the desired date, September 7, 2001. However, the environmental impacts of the proposed action and the alternative would be the same.

Agencies and Persons Consulted: On April 10, 2001, Wisconsin state official, Mr. Jeff Kitsembel, Nuclear Engineer, Public Service Commission of Wisconsin, was contacted regarding the environmental assessment for the proposed action and had no comment.

Finding of No Significant Impact

The environmental impacts of the proposed action have been reviewed in accordance with the requirements set forth in 10 CFR Part 51. Based upon the foregoing EA, the Commission finds that the proposed action of granting an exemption from 10 CFR 72.48, so that NMC may implement the amended requirements on September 7, 2001, will not significantly impact the quality of human environment. Accordingly, the Commission has determined that an environmental impact statement for the proposed action is not necessary.

The request for exemption was docketed under 10 CFR Part 72, Docket 72-5. For further details with respect to this action, see the exemption request dated March 20, 2001, as supplemented April 6, 2001, which is available for public inspection at the Commission's Public Document Room, One White Flint North Building, 11555 Rockville Pike, Rockville, Maryland 20852, or from the publicly available records component of NRC's agencywide documents access and management system (ADAMS).

ADAMS is accessible from the NRC web site at http://www.nrc.gov/NRC/ADAMS/index.html (the Public Electronic Reading Room).

Dated at Rockville, Maryland, this 25th day of April 2001.
For the Nuclear Regulatory Commission.
E. William Brach,
Director, Spent Fuel Project Office, Office of Nuclear Material Safety and Safeguards.

[FR Doc. 01-11386 Filed 5-4-01; 8:45 am]

BILLING CODE 7590-01-P